ENVIRONMENTAL PROTECTION AGENCY

[EPA-HQ-OECA-2013-0348; FRL-10025-83-OMS]

Information Collection Request Submitted to OMB for Review and Approval; Comment Request; NESHAP for Primary Aluminum Reduction Plants (Renewal)

AGENCY: Environmental Protection Agency (EPA).

ACTION: Notice.

SUMMARY: The Environmental Protection Agency (EPA) has submitted an information collection request (ICR), NESHAP for Primary Aluminum Reduction Plants (EPA ICR Number 1767.09, OMB Control Number 2060-0360), to the Office of Management and Budget (OMB) for review and approval in accordance with the Paperwork Reduction Act. This is a proposed extension of the ICR, which is currently approved through August 31, 2021. Public comments were previously requested, via the Federal Register, on May 12, 2020 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 2, 2021.

ADDRESSES: Submit your comments, referencing Docket ID Number EPA-HQ-OECA-2013-0348, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: Owners and operators of affected facilities are required to comply with reporting and record keeping requirements for the General Provisions (40 CFR part 63, subpart A), as well as for the applicable specific standards in 40 CFR part 63, subpart LL. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Primary aluminum production located at a major source.

Respondent's obligation to respond: Mandatory (40 CFR part 63, subpart LL).

Estimated number of respondents: 8 (total).

Frequency of response: Initially, annually, and semiannually.

Total estimated burden: 52,300 hours (per year). Burden is defined at 5 CFR 1320.3(b).

Total estimated cost: $6,440,000 (per year), which includes $310,000 in annualized capital/startup and/or operation & maintenance costs.

Changes in the estimates: There is a decrease in burden from the most-recently approved ICR as currently identified in the OMB Inventory of Approved Burdens. This increase is not due to any program changes. The adjustment decrease in burden from the most-recently approved ICR is due to a decrease in the number of sources. The currently approved ICR assumed 11 respondents. Consultations with the Aluminum Association conducted during the renewal of this ICR revealed that there are only eight primary aluminum reduction plants currently subject to this subpart. This decrease in the number of respondents has resulted in a decrease in respondent labor hours. This ICR adjusts the capital cost from the previously-approved ICR to reflect costs from the October 15, 2015 rule, which were annualized over a 15 year period; the previous ICR assumed that all capital costs were completed within the first three years of the 2015 final rule. This ICR also adjusts the operation and maintenance (O&M) costs from the previous ICR from 1997 dollars to 2019 dollars using the CEPCI CE Index, and includes O&M costs for annual monitoring from the 2015 final rule that were inadvertently excluded from the previous ICR. Therefore, this ICR reflects a modest increase in capital and O&M costs from the most-recently approved ICR. This ICR also corrects the total number of responses to reflect the submittal of performance test reports on a semiannual basis, which were inadvertently excluded from the previous ICR. This ICR, by in large, reflects the on-going burden and costs for existing facilities. Activities for existing sources include annual and semiannual performance tests, continuous monitoring of pollutants, and the submission of semiannual reports.

Courtney Kerwin,
Director, Regulatory Support Division.

[FR Doc. 2021-14120 Filed 6-30-21; 8:45 am]

BILLING CODE 6560-50-P